DEPARTMENT OF THE TREASURY

Office of Thrift Supervision

[AC-5; OTS Nos. H-3858 and 02859]

Monarch Community Bancorp, Inc., Clodwater, Michigan; Approval of Conversion Application

Notice is hereby given that on July 17, 2002, the Director, Examination Policy, Office of Thrift Supervision, or her designee, acting pursuant to delegated authority, approved the application of Branch County Savings & Loan Association of Coldwater, Coldwater, Michigan, to convert to the stock form or organization and to change its name to Monarch Community Bank. Copies of the application are available for inspection by appointment (phone number: 202-906-5922 or e-mail: Public.Info@OTS.Treas.gov) at the Public Reading Room, OTS, 1700 G Street, NW, Washington, DC 20552, and the OTS Southeast Regional Office, 1475 Peachtree Street, N.E., Atlanta, GA 30309.

By the Office of Thrift Supervisions.
Dated: July 25, 2002.
Nadine Y. Washington,
Corporate Secretary.

[FR Doc. 02-19242 Filed 7-30-02; 8:45 am]

BILLING CODE 6720-01-P